DEPARTMENT OF EDUCATION

[CFDA No. 84.259A]

Native Hawaiian Vocational Education Program

AGENCY: Office of Vocational and Adult Education, Department of Education.

ACTION: Notice of availability of assistance for ALU LIKE, Inc. under the Native Hawaiian Vocational Education Program (NHVEP).

SUMMARY: The NHVEP provides financial assistance to projects that provide vocational training and related activities for the benefit of Native Hawaiians. Eligible program applicants are organizations primarily serving and representing Native Hawaiians that are recognized by the Governor of the State of Hawaii (the Governor).

In December 2001, the Governor recommended that the Department of Education consider ALU LIKE, Inc. of Honolulu for funding under the NHVEP. We have, therefore, requested an application from ALU LIKE, Inc. We will review the ALU LIKE, Inc. application for compliance with section 116(h) of the Carl D. Perkins Vocational and Technical Education Act of 1998 (the Perkins Act). If the application is approved, we will award a grant of up to five years to ALU LIKE, Inc. on or about July 31, 2002.

Funds currently available for the NHVEP are $2,750,000 from the FY 2001 appropriation and $2,950,000 from the FY 2002 appropriation. Funding for subsequent project years is subject to the availability of appropriations and to the grantee making substantial progress in meeting its goals and objectives, in accordance with 34 CFR 75.253.

FOR FURTHER INFORMATION CONTACT: Paul Geib, U.S. Department of Education, 400 Maryland Avenue, SW., room 4525, Mary E. Switzer Building, Washington, DC 20202-7242. Telephone: (202) 205-9962 or via Internet: paul.geib@ed.gov.

If you use a telecommunications device for the deaf (TDD), you may call the Federal Information Relay Service (FIRS) at 1-800-877-8339 between 8 a.m. and 8 p.m. Eastern Time.

Individuals with disabilities may obtain this document in an alternative format (e.g., Braille, large print, audiotape, or computer diskette) on request to the program contact person listed at the beginning of this section.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 2326.

Dated: April 19, 2002.
Carol D'Amico,
Assistant Secretary, Office of Vocational and Adult Education.

[FR Doc. 02-10022 Filed 4-23-02; 8:45 am]

BILLING CODE 4000-01-P